FEDERAL COMMUNICATIONS COMMISSION

47 CFR Part 73

[DA 06-1007; MB Docket No. 05-162; RM-11227, RM-11295]

Radio Broadcasting Services; Enfield, New Hampshire; Hartford, VT; Keeseville and Morrisonville, NY and White River Junction, VT

AGENCY: Federal Communications Commission.

ACTION: Final rule.

SUMMARY: In response to a Notice of Proposed Rule Making, this Report and Order (1) allots Channel 282A to Enfield, New Hampshire as its first local aural transmission service; (2) reallots Channel 282C3 from Hartford, Vermont, to Keeseville, New York, and modifies the license of FM Station WWOD accordingly; (3) reallots Channel 237A from White River Junction, Vermont, to Hartford, Vermont and modifies the license of FM Station WXLF accordingly, and (4) reallots Channel 231A from Keeseville, New York, to Morrisonville, New York, as Morrisonville's first local aural transmission service. The coordinates for Channel 282A at Enfield, New Hampshire are 43-38-30 North Latitude and 72-08-42 West Longitude, with no site restrictions. The coordinates for Channel 282C3 at Keeseville, New York are 44-31-31 North Latitude and 73-31-07 West Longitude, with a site restriction of 3.8 kilometers (2.3 miles) northwest of Keeseville. The coordinates for Channel 237A at Hartford, Vermont, are 43-43-45 North Latitude and 72-22-22 West Longitude, with a site restriction of 8.1 kilometers (5.0 miles) north of Hartford. The coordinates for Channel 231A at Morrisonville, New York are 44-40-19 North Latitude and 73-32-17 West Longitude, with a site restriction of 3.0 kilometers (1.9 miles) southeast of Morrisonville.

DATES: Effective June 26, 2006.

ADDRESSES: Federal Communications Commission; 445 Twelfth Street, SW., Washington, DC 20554.

FOR FURTHER INFORMATION CONTACT: R. Barthen Gorman, Media Bureau, (202) 418-2180.

SUPPLEMENTARY INFORMATION: This is a synopsis of the Commission's Report and Order, MB Docket No. 05-162, adopted May 10, 2006, and released May 12, 2006. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

Station WWOD was granted a license to specify operation on Channel 282C3 in lieu of Channel 282A at Hartford, Vermont. See File No. BLH-1996 0919 KA.

List of Subjects in 47 CFR Part 73

Radio, Radio Broadcasting.

As stated in the preamble, the Federal Communications Commission amends 47 CFR part 73 as follows:

PART 73—RADIO BROADCAST SERVICES

1. The authority citation for part 73 reads as follows:

Authority: 47 U.S.C. 154, 303, 334, 336.

§ 73.202 [Amended]

2. Section 73.202 (b), the Table of FM Allotments under New Hampshire, is amended by adding Enfield, Channel 282A.

3. Section 73.202 (b), the Table of FM Allotments under New York, is amended by removing Channel 231A and adding Channel 282C3 at Keeseville and by adding Morrisonville, Channel 231A.

4. Section 73.202 (b), the Table of FM Allotments under Vermont, is amended by removing Channel 282A and adding Channel 237A at Hartford; and by removing White River Junction, Channel 237A.

Federal Communications Commission.
John A. Karousos,
Assistant Chief, Audio Division, Media Bureau.

[FR Doc. E6-8150 Filed 5-30-06; 8:45 am]

BILLING CODE 6712-01-P